DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before July 5, 2005.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave., SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-048464

Applicant: Joanne Roberts, Phoenix, Arizona.

Applicant requests an amendment to an existing permit for research and recovery purposes to conduct presence/absence surveys for Sonoran tiger salamander (Ambystoma tigrinum stebbinsi) within Arizona.

Permit No. TE-103076

Applicant: Transcon Infrastructure, Inc., Mesa, Arizona.

Applicant requests a new permit for research and recovery purposes to conduct presence/absence surveys for cactus ferruginous pygmy-owl (Glaucidium brasilianum cactorum) within Arizona.

Permit No. TE-020844

Applicant: Engineering and Environmental consultants, Inc., Tucson, Arizona.

Applicant requests an amendment to an existing permit for research and recovery purposes to conduct presence/absence surveys for lesser long-nosed bat (Leptonycteris curasoae (=sanborni) yerbabuenae), interior least tern (Sterna antillarum), and northern aplomado falcon (Falco femoralis septentrionalis) within Arizona, New Mexico, and Texas.

Permit No TE-102515

Applicant: Northeastern State University, Tahlequah, Oklahoma.

Applicant requests a new permit for research and recovery purposes to conduct presence/absence surveys, capture, and tag for the American burying beetle (Nicrophorus americanus) within Oklahoma.

Permit No. TE-102517

Applicant: Tetra Tech, Inc., Farmington, New Mexico.

Applicant requests a new permit for research and recovery purposes to conduct presence/absence surveys for southwestern willow flycatcher (Empidonax traillii extimus) within Arizona, Colorado, New Mexico, Texas, and Utah.

Permit No. TE-006655

Applicant: Logan Simpson Design, Inc., Tempe, Arizona.

Applicant requests an amendment to an existing permit to conduct presence/absence surveys for the following species within Arizona, Colorado, New Mexico, Nevada, and Utah: interior least tern (Sterna antillarum), northern aplomado falcon (Falco femoralis septentrionalis), Gila topminnow (Poeciliopsis occidentalis), and razorback sucker (Xyrauchen texanus). In addition to presence/absence surveys, applicant requests authorization to conduct nest searches and nest monitoring for the northern aplomado falcon (Falco femoralis septentrionalis).

Permit No. TE-103069

Applicant: Donna J. Howell, Mora, New Mexico.

Applicant requests a new permit to capture, hold, and release lesser long-nosed bats (Leptonycteris curasoae (=sanborni) yerbabuenae) within Arizona.

Permit No. TE-103314

Applicant: Jon Matthew Tanner, McKinney, Texas.

Applicant requests a new permit for research and recovery purposes to conduct presence/absence surveys and nest monitoring for interior least tern (Sterna antillarum ) within Texas.

Permit No. TE-103480

Applicant: Carianne Funicelli, Tucson, Arizona.

Applicant requests a new permit for research and recovery purposes to conduct presence/absence surveys for the following species within Arizona, New Mexico, and Texas: lesser long-nosed bat (Leptonycteris curasoae (=sanborni) yerbabuenae), cactus ferruginous pygmy-owl (Glaucidium brasilianum cactorum), southwestern willow flycatcher (Empidonax traillii extimus), Sonoran tiger salamander (Ambystoma tigrinum stebbinsi), desert pupfish (Cyprinodon macularius), and Gila topminnow (Poeciliopsis occidentalis).

Permit No. TE-103860

Applicant: Roberg Environmental Consulting Services, Cabot, Arkansas.

Applicant requests a new permit for research and recovery purposes to survey, trap, and relocate for the American burying beetle (Nicrophorus americanus) within Arkansas and Oklahoma.

Permit No. TE-103862

Applicant: Texas Department of Transportation, Houston, Texas.

Applicant requests a new permit for research and recovery purposes to conduct presence/absence surveys for the following species within Texas: Attwater's greater prairie chicken (Tymphanuchus cupido attwateri), brown pelican (Pelecanus occidentalis), Eskimo curlew (Numenius borealis), red-cockaded woodpecker (Picoides (=Dendrocopos) borealis), whooping crane (Grus americana), and Texas prairie dawn-flower (Hymenoxys texana).

Authority: 16 U.S.C. 1531, et seq.

Dated: May 10, 2005.
Steve Chambers,
Acting Assistant Regional Director, Ecological Services, Region 2, Albuquerque, New Mexico.

[FR Doc. 05-11039 Filed 6-2-05; 8:45 am]

BILLING CODE 4310-55-P